DEPARTMENT OF COMMERCE

International Trade Administration

[C-570-913]

Certain New Pneumatic Off-the-Road Tires From the People's Republic of China: Final Affirmative Countervailing Duty Determination and Final Negative Determination of Critical Circumstances

AGENCY: Import Administration, International Trade Administration, Department of Commerce.

SUMMARY: The Department of Commerce (the Department) has reached a final determination that countervailable subsidies are being provided to producers/exporters of certain new pneumatic off-the-road tires (OTR tires) from the People's Republic of China (PRC). For information on the final subsidy rates, see the “Final Determination” section of this notice.

DATES: Effective Date: July 15, 2008.

FOR FURTHER INFORMATION CONTACT: Mark Hoadley, Jun Jack Zhao, Nicholas Czajkowski, or Toni Page, AD/CVD Operations, Office 6, Import Administration, International Trade Administration, U.S. Department of Commerce, Room 7866, 14th Street and Constitution Avenue, NW., Washington, DC 20230; telephone: (202) 482-3148, (202) 482-1396, (202) 482-1395, or (202) 482-1398, respectively.

SUPPLEMENTARY INFORMATION:

Case History

Since the publication of the preliminary determination in the Federal Register on December 17, 2007, the following events have occurred. See Certain New Pneumatic Off-the-Road Tires From the People's Republic of China: Preliminary Affirmative Countervailing Duty Determination, 72 FR 71360 (December 17, 2007) (Preliminary Determination). At the request of Petitioners,¹ the Department aligned the final determination in this countervailing duty investigation with the final determination in the companion antidumping duty investigation. See Certain New Pneumatic Off-the-Road Tires from the People's Republic of China: Alignment of Final Countervailing Duty Determination With Final Antidumping Duty Determination, 73 FR 3238 (January 17, 2008).

¹ Titan Tire Corporation and United Steel, Paper and Forestry, Rubber, Manufacturing, Energy Allied Industrial and Service Workers International Union, AFL-CIO-CLC (collectively, Petitioners). The domestic interested party is Bridgestone Americas Holding, Inc. and its subsidiary, Bridgestone Firestone North America Tire, LLC (collectively, Bridgestone).

In the Preliminary Determination, we invited Petitioners, Bridgestone, and all of the Respondents ² to comment on land use rights. We received comments from all parties regarding this issue on January 7, 2008. The Petitioners, Bridgestone and the Respondents also submitted factual information and arguments prior to the final determination based on various deadlines for submissions of factual information and/or arguments established by the Department subsequent to the Preliminary Determination.

² The Government of The People's Republic of China (GOC), Guizhou Tire Co., Ltd. (GTC), Hebei Starbright Tire Co., Ltd. (Starbright), and Tianjin United Tire & Rubber International Co., Ltd. (TUTRIC) (collectively, Respondents).

On January 9, 2008, the Department issued supplemental questionnaires to the GOC, GTC, Starbright, and TUTRIC. We received responses to our January 9, 2008 supplemental questionnaire from all Respondents on February 6, 2008. We issued another supplemental questionnaire to all respondent parties on January 25, 2008 for which we received responses from all Respondents on February 15, 2008. The Department issued a supplemental questionnaire to the GOC on February 13, 2008 for which the GOC filed a response on February 27, 2008. The Department issued a supplemental questionnaire to GTC on February 15, 2008 for which GTC filed a response on February 28, 2008. The Department also issued supplemental questionnaires to TUTRIC and Starbright on February 19, 2008, pursuant to which the companies filed responses on February 27, 2008.

The Department received requests for a hearing from the Petitioners, Bridgestone, the GOC, Starbright, and GTC on January 9, 2008 and on January 16, 2008 from TUTRIC. The Department had scheduled the hearing for June 19, 2008; however, on June 16, 2008 the Department received a letter from Bridgestone stating that all interested parties agreed that a hearing was not necessary. See Letter to the Department, “New Pneumatic Off-the-Road Tires From the People's Republic of China: Consent Withdrawal of All Hearing Requests” (June 16, 2008), on file in the Department's Central Records Unit (CRU) (Room 1117 in the HCHB Building).

From March 3 through March 13, 2008, we conducted verification of the questionnaire responses submitted by the GOC, including the national, provincial, and local governments, GTC, and TUTRIC. The Department issued verification reports on April 22, 2008 and April 24, 2008. See Memorandum to Thomas Gilgunn, Program Manager, Countervailing Duty Investigation: New Pneumatic Off-the-Road Tires from the People's Republic of China: Verification of the Questionnaire Responses Submitted by the Government of the People's Republic of China (GOC) (GOC Verification Report); Memorandum to Thomas Gilgunn, Program Manager, Countervailing Duty Investigation: New Pneumatic Off-the-Road Tires from the People's Republic of China: Verification of the Questionnaire Responses Submitted by GTC Co., Ltd. (GTC Verification Report); Memorandum to Thomas Gilgunn, Program Manager, Countervailing Duty Investigation: New Pneumatic Off-the-Road Tires from the People's Republic of China: Meetings with the Government of the Guizhou Province Regarding GTC Co., Ltd. and Affiliates (Guizhou Province Verification Report); Memorandum to Thomas Gilgunn, Program Manager, Countervailing Duty Investigation: New Pneumatic Off-the-Road Tires from the People's Republic of China: Verification of the Questionnaire Responses Submitted by Tianjin United Tire & Rubber International Co., Ltd. (TUTRIC Verification Report); and Memorandum to Thomas Gilgunn, Program Manager, Countervailing Duty Investigation: New Pneumatic Off-the-Road Tires from the People's Republic of China: Meetings with the Government of Tianjin Municipality Regarding Tianjin United Tire & Rubber International Co., Ltd. and Affiliates (Tianjin Government Verification Report).

On March 7, 2008, the Department decided not to verify Starbright because the company had repeatedly declined to provide requested information. See Letter to Starbright, Countervailing Duty Investigation: New Pneumatic Off-the-Road Tires from the People's Republic of China (March 7, 2008), on file in the Department's CRU. On March 11 and March 12, 2008, Starbright and the GOC, respectively, filed letters objecting to the Department's decision. On March 12, 2008, Petitioners and Bridgestone filed letters stating that the Department should not verify Starbright. The Department held several meetings with Starbright officials and GOC officials. See Memoranda to the File, “Ex-parte Meeting with Representatives of Hebei Starbright Tire Co., Ltd.” (March 11, 2008), “Meeting with Chinese Ministry of Commerce Bureau of Fair Trade Director General Li Ling” (March 12, 2008), “Ex-Parte Meeting with Representatives of Hebei Starbright Tire Co., Ltd.” (March 24, 2008), on file in the Department's CRU.

After evaluating all of the parties' submissions and arguments on the matter, the Department stated that it would conduct a limited verification of Starbright's recurring subsidies received after Starbright's change in ownership. See Letter to Starbright, Countervailing Duty Investigation of New Pneumatic Off-the-Road Tires from the People's Republic of China (March 12, 2008). The Department then issued the GOC and Starbright a supplemental questionnaire providing them a final opportunity to provide the information previously requested. See the Department's questionnaires to the GOC and Starbright (March 24, 2008). The Department stated that it would reconsider its decision not to verify Starbright and the local governments that have jurisdiction over the company if Starbright and the GOC provided complete responses to the Department's March 24, 2008 questionnaire concerning Starbright's change in ownership. In the cover letter to the questionnaire, we stated that we needed the information regarding Starbright's purchase of Hebei Tire Co., Ltd. to analyze fully Starbright's claim that the sale at issue was at arm's length and for fair market value. The Department informed Starbright that, if the company or the GOC decided not to provide the information requested, the Department would use facts otherwise available with possible adverse inferences. See the Cover Letter of the Department's March 24, 2008 Questionnaire to Starbright. The GOC and Starbright filed responses to these questionnaires, respectively, on April 8 and April 9, 2008.

Based on our examination of these responses, the Department decided to verify. See Letter to the GOC, Countervailing Duty Investigation: New Pneumatic Off-the-Road Tires from the People's Republic of China (April 18, 2008) and Letter to Starbright, Countervailing Duty Investigation: New Pneumatic Off-the-Road Tires from the People's Republic of China (April 21, 2008) to which the verification outlines were attached, on file in the Department's CRU. The Department then verified Starbright as well as the governments of Hebei province and the city of Xingtai from April 24 through May 1, 2008. We issued verification reports on May 13, 2008 and May 14, 2008. See Memorandum to Thomas Gilgunn, Program Manager, Countervailing Duty Investigation: New Pneumatic Off-the-Road Tires from the People's Republic of China: Meetings with the Government of Hebei Province and Xingtai Municipality Regarding Hebei Starbright Tire Co., Ltd. (Starbright) and Hebei Tire Co., Ltd. (Hebei Tire) (Hebei Province Verification Report) and Memorandum to Thomas Gilgunn, Program Manager, Countervailing Duty Investigation: New Pneumatic Off-the-Road Tires from the People's Republic of China: Verification of the Questionnaire Responses Submitted by Hebei Starbright Tire Co., Ltd. (Starbright) (Starbright Verification Report).

On May 2, 2008, we issued our post-preliminary analysis for certain programs for which the Department stated in the Preliminary Determination additional information was needed. See Memorandum to David M. Spooner, Assistant Secretary for Import Administration, Countervailing Duty Investigation of New Pneumatic Off-the-Road Tires from the People's Republic of China; Post-Preliminary Analysis of Non-Tradable Share Reform; Provision of Water to FIEs for Less than Adequate Remuneration; Grants to the Tire Industry for Electricity; and Various Provincial/Municipal Programs (May 2, 2008) (Post-Preliminary Analysis), on file in the Department's CRU. The Department then issued a post-preliminary analysis regarding the change in ownership for Starbright. See Memorandum to David M. Spooner, Assistant Secretary for Import Administration, Countervailing Duty Investigation of Certain New Pneumatic Off-the-Road Tires (OTR Tires) from the People's Republic of China; Analysis of Change in Ownership (May 28, 2008) (CIO Memorandum).

Due to the decision to conduct verification of Starbright, the Department set up two separate briefing schedules: one for all issues except Starbright-specific issues and one for Starbright issues. See Memorandum to the File, Countervailing Duty Investigation of Certain New Pneumatic Off-the-Road Tires from the People's Republic of China: Briefing and Hearing Schedules (April 3, 2008) and Memorandum to the File, Countervailing Duty Investigation of Certain New Pneumatic Off-the-Road Tires from the People's Republic of China: Briefing and Hearing Schedules (May 28, 2008). In accordance with the briefing schedules, we received case briefs from Petitioners, Bridgestone, the GOC, GTC, and TUTRIC on May 9 and 12, 2008. The same parties submitted rebuttal briefs on May 15, 2008. The Department then received case briefs regarding Starbright-specific issues on June 4 and June 5, 2008 from Petitioners, Bridgestone, the GOC, and Starbright. On June 6, 2008, the Department determined that Starbright's brief contained untimely new factual information and requested that Starbright submit replacement pages with all references to this information removed. See Letter to Starbright, New Factual Information (June 6, 2008). Starbright submitted replacement pages without the untimely filed new factual information on June 9, 2008. Petitioners, Bridgestone, the GOC, and Starbright submitted rebuttal briefs pertaining to Starbright-specific issues on June 9 and June 10, 2008.

On June 10, 2008, both Bridgestone and Starbright filed letters with the Department alleging that the other party had included new factual information on the record in both the case briefs and the rebuttal briefs. On June 13, 2008, the Department issued a memorandum to the file addressing all allegations of new factual information. See Memorandum to the File, Various Allegations Concerning Case and Rebuttal Briefs Regarding Hebei Starbright Tire Co., Ltd. (Starbright), on file in the Department's CRU. In the June 13, 2008 memorandum, the Department: (1) Determined that we would not address Petitioners' or Bridgestone's uncreditworthiness allegation against Starbright that both raised in their respective briefs; (2) determined that information in Starbright's rebuttal brief was not new factual information; (3) determined that information submitted by Bridgestone in its rebuttal brief was not new factual information; and (4) clarified that Bridgestone's comments regarding market distortions in its June 9, 2008 rebuttal brief were allowed as part of the arguments concerning whether the sale of Hebei Tire was for fair market value.

Period of Investigation

The period of investigation (POI) for which we are measuring subsidies is calendar year 2006.

Scope of the Investigation

The products covered by the scope of this investigation are new pneumatic tires designed for off-the-road (OTR) and off-highway use, subject to certain exceptions. In the Preliminary Determination, we stated that we had received comments on the scope of the investigation from a number of parties and that all comments raised by the parties would be addressed in the companion antidumping investigation. On May 14, 2008, the Department issued a memorandum regarding the scope of both the AD and CVD Investigations on OTR Tires from the PRC, addressing the scope comments submitted by multiple interested parties. See Preliminary Determination: Comments on the Scope of the Investigations (Preliminary Scope Determination).

In the Preliminary Scope Determination, we made certain modifications to the scope of the investigation and invited interested parties to comment on these modifications. Interested parties submitted comments on the Preliminary Scope Determination on May 22, 2008 and rebuttal comments on May 27, 2008. Based on these comments, we have made certain clarifications to the scope of the investigation. These clarifications, as well as a complete description of all products covered by the scope of this investigation, and a list of excluded products, are reflected in the Final Scope of the Investigation which is appended to this notice at Appendix I.

All comments submitted on the Preliminary Scope Determination are addressed in the Scope Comments section of the Issues and Decision Memorandum for the Final Affirmative Countervailing Duty Determination: Certain New Pneumatic Off-the-Road Tires from the People's Republic of China (Issues and Decision Memorandum), which is issued concurrently with this notice.

Critical Circumstances

On March 11, 2008, Petitioners submitted a timely critical circumstances allegation. On April 22, 2008, the Department preliminarily determined that critical circumstances did not exist for imports of OTR tires from the PRC. See Notice of Preliminary Negative Determination of Critical Circumstances: Certain New Pneumatic Off-the-Road Tires From the People's Republic of China, 73 FR 21588 (April 22, 2008) (Critical Circumstances Notice). Pursuant to section 705(a)(2) of the Tariff Act of 1930, as amended (the Act), in order for critical circumstances to exist, the Department must find that there are countervailable subsidies that are inconsistent with the World Trade Organization Agreement on Subsidies and Countervailing Measures (SCM Agreement ) (i.e., import substitution subsidies or export subsidies), and that there have been massive imports over a relatively short period (i.e., whether there was a surge in imports). Based on our analyses of the results of verification and the comments submitted by the parties, we have determined that none of the respondents have received subsidies inconsistent with the SCM Agreement. We therefore need not reach the issue of whether there have been massive imports over a relatively short period of time. Since the requirements of section 705(a)(2) of the Act have not been met, we determine that critical circumstances do not exist with respect to imports of OTR tires from the PRC.

Analysis of Subsidy Programs and Comments Received

The subsidy programs under investigation and the issues raised by interested parties in their case briefs and rebuttal briefs on the Preliminary Determination, the Post-Preliminary Analysis, and the CIO Memorandum, are discussed in the Issues and Decision Memorandum. A list of the subsidy programs and of the issues that parties have raised is attached to this notice as Appendix II. Parties can find a complete discussion of all of the subsidy programs and issues raised in this investigation and the corresponding recommendations in this public memorandum, which is on file in the Department's CRU. A complete version of the Issues and Decision Memorandum is available at http://www.trade.gov/ia under the heading “Federal Register Notices.” The paper copy and the electronic version of the Issues and Decision Memorandum are identical in content.

Final Determination

In accordance with section 705(c)(1)(B)(i) of the Act, we determine the total net countervailable subsidy rates to be:

Producer/Exporter | Net subsidy rate (percent)
Guizhou Tire Co., Ltd. (GTC) | 2.45
Hebei Starbright Tire Co., Ltd. (Starbright) | 14.00
Tianjin United Tire & Rubber International Co., Ltd. (TUTRIC) | 6.85
All-Others | 5.62

In accordance with section 705(c)(5)(A)(ii) of the Act, we have calculated the all others rate based on a weighted average of the three mandatory respondents' calculated rates.

Suspension of Liquidation

In accordance with sections 703(d)(1)(B) and (2) of the Act, we directed U.S. Customs and Border Protection (CBP) to suspend liquidation of all entries of OTR tires from the PRC that were entered, or withdrawn from warehouse, for consumption on or after December 17, 2007. In accordance with section 703(d) of the Act, we instructed CBP to discontinue the suspension of liquidation for countervailing duty purposes for subject merchandise entered, or withdrawn from warehouse, on or after April 15, 2008, but to continue the suspension of liquidation of all entries from December 17, 2007 through April 14, 2008.

If the ITC issues a final affirmative determination of injury, we will issue a countervailing duty order, reinstate suspension of liquidation under section 706(a) of the Act for all entries, and require a cash deposit of estimated countervailing duties for such entries of merchandise at the rates indicated above. If the ITC determines that material injury to, threat of material injury to, or material retardation of, the domestic industry does not exist, this proceeding will be terminated and all estimated duties deposited or securities posted as a result of the suspension of liquidation will be refunded or canceled.

ITC Notification

In accordance with section 705(d) of the Act, we will notify the ITC of our determination. In addition, we are making available to the ITC all non-privileged and non-proprietary information related to this investigation. We will allow the ITC access to all privileged and business proprietary information in our files, provided the ITC confirms it will not disclose such information, either publicly or under an administrative protective order (APO), without the written consent of the Assistant Secretary for Import Administration.

Return or Destruction of Proprietary Information

In the event that the ITC issues a final negative injury determination, this notice will serve as the only reminder to parties subject to APO of their responsibility concerning the destruction of proprietary information disclosed under APO in accordance with section 351.305(a)(3) of the Department's regulations. Failure to comply is a violation of the APO.

This determination is issued and published pursuant to sections 705(d) and 777(i) of the Act.

Dated: July 7, 2008.
David M. Spooner,
Assistant Secretary for Import Administration.

Appendix I: Final Scope of the Investigation

The products covered by the scope are new pneumatic tires designed for off-the-road (OTR) and off-highway use, subject to exceptions identified below. Certain OTR tires are generally designed, manufactured and offered for sale for use on off-road or off-highway surfaces, including but not limited to, agricultural fields, forests, construction sites, factory and warehouse interiors, airport tarmacs, ports and harbors, mines, quarries, gravel yards, and steel mills. The vehicles and equipment for which certain OTR tires are designed for use include, but are not limited to: (1) Agricultural and forestry vehicles and equipment, including agricultural tractors,³ combine harvesters,⁴ agricultural high clearance sprayers,⁵ industrial tractors,⁶ log-skidders,⁷ agricultural implements, highway-towed implements, agricultural logging, and agricultural, industrial, skid-steers/mini-loaders;⁸ (2) construction vehicles and equipment, including earthmover articulated dump products, rigid frame haul trucks,⁹ front end loaders,¹⁰ dozers,¹¹ lift trucks, straddle carriers,¹² graders,¹³ mobile cranes,¹⁴ compactors; and (3) industrial vehicles and equipment, including smooth floor, industrial, mining, counterbalanced lift trucks, industrial and mining vehicles other than smooth floor, skid-steers/mini-loaders, and smooth floor off-the-road counterbalanced lift trucks.¹⁵ The foregoing list of vehicles and equipment generally have in common that they are used for hauling, towing, lifting, and/or loading a wide variety of equipment and materials in agricultural, construction and industrial settings. Such vehicles and equipment, and the descriptions contained in the footnotes are illustrative of the types of vehicles and equipment that use certain OTR tires, but are not necessarily all-inclusive.

³ Agricultural tractors are dual-axle vehicles that typically are designed to pull farming equipment in the field and that may have front tires of a different size than the rear tires.

⁴ Combine harvesters are used to harvest crops such as corn or wheat.

⁵ Agricultural sprayers are used to irrigate agricultural fields

⁶ Industrial tractors are dual-axle vehicles that typically are designed to pull industrial equipment and that may have front tires of a different size than the rear tires.

⁷ A log-skidder has a grappling lift arm that is used to grasp, lift and move trees that have been cut down to a truck or trailer for transport to a mill or other destination.

⁸ Skid-steer loaders are four-wheel drive vehicles with the left-side drive wheels independent of the right-side drive wheels and lift arms that lie alongside the driver with the major pivot points behind the driver's shoulders. Skid-steer loaders are used in agricultural, construction and industrial settings.

⁹ Haul trucks, which may be either rigid frame or articulated (i.e., able to bend in the middle) are typically used in mines, quarries and construction sites to haul soil, aggregate, mined ore, or debris.

¹⁰ Front loaders have lift arms in front of the vehicle. They can scrape material from one location to another, carry material in their buckets, or load material into a truck or trailer.

¹¹ A dozer is a large four-wheeled vehicle with a dozer blade that is used to push large quantities of soil, sand, rubble, etc., typically around construction sites. They can also be used to perform “rough grading” in road construction.

¹² A straddle carrier is a rigid frame, engine-powered machine that is used to load and offload containers from container vessels and load them onto (or off of) tractor trailers.

¹³ A grader is a vehicle with a large blade used to create a flat surface. Graders are typically used to perform “finish grading.” Graders are commonly used in maintenance of unpaved roads and road construction to prepare the base course onto which asphalt or other paving material will be laid.

¹⁴ i.e., “on-site” mobile cranes designed for off-highway use.

¹⁵ A counterbalanced lift truck is a rigid framed, engine-powered machine with lift arms that has additional weight incorporated into the back of the machine to offset or counterbalance the weight of loads that it lifts so as to prevent the vehicle from overturning. An example of a counterbalanced lift truck is a counterbalanced fork lift truck. Counterbalanced lift trucks may be designed for use on smooth floor surfaces, such as a factory or warehouse, or other surfaces, such as construction sites, mines, etc.

While the physical characteristics of certain OTR tires will vary depending on the specific applications and conditions for which the tires are designed (e.g., tread pattern and depth), all of the tires within the scope have in common that they are designed for off-road and off-highway use. Except as discussed below, OTR tires included in the scope of the proceeding range in size (rim diameter) generally but not exclusively from 8 inches to 54 inches. The tires may be either tube-type ¹⁶ or tubeless, radial or non-radial, and intended for sale either to original equipment manufacturers or the replacement market. The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. While HTSUS subheadings are provided for convenience and customs purposes, our written description of the scope is dispositive.

¹⁶ While tube-type tires are subject to the scope of this proceeding, tubes and flaps are not subject merchandise and therefore are not covered by the scope of this proceeding, regardless of the manner in which they are sold (e.g. sold with or separately from subject merchandise).

Specifically excluded from the scope are new pneumatic tires designed, manufactured and offered for sale primarily for on-highway or on-road use, including passenger cars, race cars, station wagons, sport utility vehicles, minivans, mobile homes, motorcycles, bicycles, on-road or on-highway trailers, light trucks, and trucks and buses. Such tires generally have in common that the symbol “DOT” must appear on the sidewall, certifying that the tire conforms to applicable motor vehicle safety standards. Such excluded tires may also have the following designations that are used by the Tire and Rim Association:

Prefix letter designations:

• P—Identifies a tire intended primarily for service on passenger cars;

• LT—Identifies a tire intended primarily for service on light trucks; and,

• ST—Identifies a special tire for trailers in highway service.

Suffix letter designations:

• TR—Identifies a tire for service on trucks, buses, and other vehicles with rims having specified rim diameter of nominal plus 0.156” or plus 0.250”;

• MH—Identifies tires for Mobile Homes;

• HC—Identifies a heavy duty tire designated for use on “HC” 15” tapered rims used on trucks, buses, and other vehicles. This suffix is intended to differentiate among tires for light trucks, and other vehicles or other services, which use a similar designation.

• Example: 8R17.5 LT, 8R17.5 HC;

• LT—Identifies light truck tires for service on trucks, buses, trailers, and multipurpose passenger vehicles used in nominal highway service; and

• MC—Identifies tires and rims for motorcycles.

The following types of tires are also excluded from the scope: Pneumatic tires that are not new, including recycled or retreaded tires and used tires; non-pneumatic tires, including solid rubber tires; tires of a kind designed for use on aircraft, all-terrain vehicles, and vehicles for turf, lawn and garden, golf and trailer applications. Also excluded from the scope are radial and bias tires of a kind designed for use in mining and construction vehicles and equipment that have a rim diameter equal to or exceeding 39 inches. Such tires may be distinguished from other tires of similar size by the number of plies that the construction and mining tires contain (minimum of 16) and the weight of such tires (minimum 1500 pounds).

Appendix II: Issues and Decision Memorandum

I. Summary

II. Background

III. Subsidies Valuation

IV. Analysis of Programs

A. Programs Determined To Be Countervailable

1. Government Provision of Rubber for Less than Adequate Remuneration.

2. Government Policy Lending

3. Government Debt Forgiveness to TUTRIC

4. Government Debt Forgiveness and the Provision of Land to Starbright Pursuant to Its Change in Ownership

5. Stamp Tax Exemption on Share Transfers under NTSR

6. Tax Subsidies to FIEs in Specially Designated Geographic Areas, and Local Income Tax Exemption and Reduction Programs for “Productive” FIEs

7. VAT and Tariff Exemptions for FIEs and Certain Domestic Enterprises Using Imported Equipment in Encouraged Industries

8. State Key Technology Renovation Project Fund

B. Programs Determined To Be Not Countervailable

C. Programs Determined To Not Confer a Benefit During the POI

D. Programs Determined To Be Not Used

E. Program Determined To Be Terminated

V. Analysis of Comments

A. General Issues including Applicability of the CVD Law to the PRC, Cut-Off Date, and Double Remedies

Comment A.1: Application of the CVD Law to Non-Market Economies, Including the PRC

Comment A.2: Application of the CVD Law to the PRC is Consistent With the APA

Comment A.3: Whether Simultaneous Application of CVD Law in This Investigation and NME Methodology in the Parallel Antidumping Investigation Imposes Double Trade Remedies

Comment A.4: Whether December 11, 2001, is the Appropriate Date From Which the Department May Measure Subsidies in the PRC

B. Attribution of Subsidies and Cross-Ownership

Comment B.1: Attribution of Subsidies to, and Cross-Ownership of, TUTRIC/DCB

C. Whether GTC and TUTRIC Are SOEs

Comment C.1: Whether GTC Is an SOE

Comment C.2: Whether TUTRIC Is an SOE

D. Government Provision of Rubber for Less Than Adequate Remuneration

Comment D.1: Whether the GOC's Provision of Rubber Is Specific

Comment D.2: Whether the GOC's Provision of Rubber Confers a Financial Contribution

Comment D.3: GOC Control of the Rubber Market

Comment D.4: Purchases of SOE-Produced Rubber Through Private Trading Companies

Comment D.5: Whether Imported Rubber Is Countervailable

Comment D.6: Rubber Benchmark

Comment D.7: Adjustments to Rubber Calculation

E. Government Policy Lending and Government Debt Forgiveness

Comment E.1: Specificity

Comment E.2: SOCBs and Financial Contribution

Comment E.3: Role of the GOC in the PRC Banking System and Whether To Use an Internal or External Benchmark

Comment E.4: Issues Regarding Building an External Benchmark

Comment E.5: Whether Government Policy Lending to GTC Is Countervailable

Comment E.6: Whether There Was a Financial Contribution to TUTRIC

Comment E.7: Whether TUTRIC's Loans From Certain Other Banks Were Forgiven

F. Starbright-Specific Issues

Comment F.1: Due Process

Comment F.2: Application of Total Adverse Facts Available

Comment F.3: Application of the CIO Methodology

Comment F.4: The Arm's Length Nature of the Transaction

Comment F.5: The Purchase of Hebei Tire's Assets Was for Fair Market Value

Comment F.6: Whether Starbright Purchased “Substantially All” of Hebei Tire's Assets

Comment F.7: Whether the Department Erred in Finding that Hebei Tire's Non-Recurring Subsidies Pass Through to Starbright

Comment F.8: Whether Any Benefit Found by the Department Should Be Limited to the Difference Between the Appraised Value and the Value Paid

Comment F.9: Debt Forgiveness—Unpaid Loans and Other Primary Debt

Comment F.10: Debt Forgiveness—Loan Guarantee Obligations

Comment F.11: The Countervailability of Starbright's Granted Land Use Rights

Comment F.12: The Countervailability of Starbright's Land Leased From Local Villages

Comment F.13: Submission of New Factual Information

G. Other Countervailable Programs

Comment G.1: Whether Non-Tradeable Share Reform (NTSR) Is Specific

Comment G.2: Whether GTC Received a Benefit From the Transfer of Bonus Shares to Its Tradeable Shareholders Under NTSR

Comment G.3: Whether GTC Received a Benefit From the GOC's Exemption of Stamp Taxes on Share Transfers Under NTSR

Comment G.4: Whether GTC Received a Benefit From the GOC's Exemption of Income Taxes on Income Derived Under NTSR

Comment G.5: FIE Tax Exemptions

Comment G.6: Value Added Tax and Tariff Exemptions on Imported Equipment

Comment G.7: State Key Technology Renovation Project Fund

H. Government Provision of Land

Comment H.1: Whether the GOC's Provision of Land Is a Financial Contribution

Comment H.2: Cut-Off Date for Acquisition of Land-Use Rights

Comment H.3: Whether the GOC's Provision of Land Is a Recurring Benefit

Comment H.4: TUTRIC Land Countervailability

Comment H.5: Whether the GOC's Provision of Land to TUTRIC and GTC Is Specific

Comment H.6: Whether the GOC's Land-Use Rights System Operated on Market Principles During the POI

Comment H.7: Land Benchmark

I. Not Countervailable Programs

Comment I.1: VAT Export Rebates

J. Scope Comments

Comment J.1: Imported Wheel Mounted Tires Certifications

Comment J.2: OTR Agricultural Tires, Including for Highway-Towed Implements

Comment J.3: Tubes and Flaps

Comment J.4: Earthmoving, Mining, and Construction Tires

VI. Recommendation

[FR Doc. E8-16154 Filed 7-14-08; 8:45 am]

BILLING CODE 3510-DS-P